DEPARTMENT OF AGRICULTURE

Submission for OMB Review; Comment Request

March 12, 2019.

The Department of Agriculture will submit the following information collection requirement(s) to OMB for review and clearance under the Paperwork Reduction Act of 1995, Public Law 104-13 on or after the date of publication of this notice. Comments are requested regarding: (1) Whether the collection of information is necessary for the proper performance of the functions of the agency, including whether the information will have practical utility; (2) the accuracy of the agency's estimate of burden including the validity of the methodology and assumptions used; (3) ways to enhance the quality, utility and clarity of the information to be collected; and (4) ways to minimize the burden of the collection of information on those who are to respond, including through the use of appropriate automated, electronic, mechanical, or other technological collection techniques or other forms of information technology should be addressed to: Desk Officer for Agriculture, Office of Information and Regulatory Affairs, Office of Management and Budget (OMB), New Executive Office Building, Washington, DC; New Executive Office Building, 725 17th Street NW, Washington, DC 20503. Commenters are encouraged to submit their comments to OMB via email to: OIRA_Submission@omb.eop.gov or fax (202) 395-5806 and to Departmental Clearance Office, USDA, OCIO, Mail Stop 7602, Washington, DC 20250-7602.

Comments regarding these information collections are best assured of having their full effect if received by April 17, 2019. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

Agricultural Marketing Service

Title: Livestock Mandatory Reporting Act of 1999.

OMB Control Number: 0581-0186.

Summary of Collection: The Livestock Mandatory Reporting (LMR) Act of 1999 (Pub. L. 106-78; 7 U.S.C. 1635-1636h) mandates the reporting of information on prices and quantities of livestock and livestock products. The 1999 Act was established to provide timely, accurate, and reliable market information on the marketing of cattle, swine, lambs, and related products. Under this program, certain livestock packers, livestock product processors and importers meeting certain criteria, including size as measured by annual slaughter are required to report market information to the Agricultural Marketing Service (AMS). On September 30, 2015, the Agriculture Reauthorizations Act of 2015 (2015 Reauthorization Act) reauthorized LMR for an additional five years, until September 30, 2020. The information is necessary for the proper performance of the functions of AMS. USDA's market news provides all market participants, including producers, with the information necessary to make intelligent and informed marketing decisions.

Need and Use of the Information: The information collected and recordkeeping requirements will serve as the basis for livestock and livestock product market news reports utilized by the industry for marketing purposes. The reports are used by other Government agencies to evaluate market conditions and calculate price levels. Economists at major agricultural colleges and universities use the reports to make short and long-term market projections. The information is reported up to three times daily and once weekly and is only available directly from those entities required to report under the Act.

Description of Respondents: Business or other for-profit.

Number of Respondents: 116.

Frequency of Responses: Reporting; Weekly; Other (Daily).

Total Burden Hours: 24,006.

Kimble Brown,
Departmental Information Collection Clearance Officer.

[FR Doc. 2019-04936 Filed 3-15-19; 8:45 am]

BILLING CODE 3410-02-P